FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (Commission) announces new ranges of comparability for storage-type water heaters, gas-fired instantaneous water heaters, and heat pump water heaters. The Commission also announces that the current ranges of comparability required by the Appliance Labeling Rule (Rule) for room air conditioners, furnaces, boilers, and pool heaters will remain in effect until further notice.

DATES: Effective Date: October 12, 2004.

FOR FURTHER INFORMATION CONTACT: Hampton Newsome, Attorney, Division of Enforcement, Federal Trade Commission, Washington, DC 20580 (202-326-2889).

SUPPLEMENTARY INFORMATION: The Rule was issued by the Commission in 1979, 44 FR 66466 (Nov. 19, 1979), in response to a directive in the Energy Policy and Conservation Act of 1975.¹ The Rule covers several categories of major household appliances and other consumer products including water heaters (this category includes storage-type water heaters, gas-fired instantaneous water heaters, and heat pump water heaters), room air conditioners, furnaces (this category includes boilers), and central air conditioners (this category includes heat pumps).

¹ 42 U.S.C. 6294. The statute also requires the Department of Energy (DOE) to develop test procedures that measure how much energy the appliances use, and to determine the representative average cost a consumer pays for the different types of energy available.

The Rule requires manufacturers of all covered appliances to disclose specific energy consumption or efficiency information (derived from the DOE test procedures) at the point of sale in the form of an “EnergyGuide” label and in catalogs. It also requires manufacturers of furnaces, central air conditioners, and heat pumps either to provide fact sheets showing additional cost information, or to be listed in an industry directory showing the cost information for their products. The Rule requires manufacturers to include, on labels and fact sheets, an energy consumption or efficiency figure and a “range of comparability.” This range shows the highest and lowest energy consumption or efficiencies for all comparable appliance models so consumers can compare the energy consumption or efficiency of other models (perhaps competing brands) similar to the labeled model. The Rule also requires manufacturers to include, on labels for some products, a secondary energy usage disclosure in the form of an estimated annual operating cost based on a specified DOE national average cost for the fuel the appliance uses.

Section 305.8(b) of the Rule requires manufacturers, after filing an initial report, to report certain information annually to the Commission by specified dates for each product type.² These reports, which are to assist the Commission in preparing the ranges of comparability, contain the estimated annual energy consumption or energy efficiency ratings for the appliances derived from tests performed pursuant to the DOE test procedures. Because manufacturers regularly add new models to their lines, improve existing models, and drop others, the data base from which the ranges of comparability are calculated is constantly changing. To keep the required information consistent with these changes, under Section 305.10 of the Rule, the Commission will publish new ranges if an analysis of the new information indicates that the upper or lower limits of the ranges have changed by more than 15%. Otherwise, the Commission will publish a statement that the prior ranges remain in effect for the next year.

² Annual reports for room air conditioners, heat pump water heaters, storage-type water heaters, gas-fired instantaneous water heaters, furnaces, boilers, and pool heaters are due May 1.

Analysis of 2004 Data Submissions

Manufacturers have submitted data for room air conditioners, water heaters (including storage-type, gas-fired instantaneous, and heat pump water heaters), furnaces, boilers, and pool heaters. The ranges of comparability for water heaters have changed significantly this year. Accordingly, the Commission is amending the ranges in Appendices D1 through D5 of the Rule which cover storage-type water heaters (natural gas, propane, electric, and oil), gas-fired instantaneous water heaters, and heat pump water heaters. Water heater manufacturers should now base the disclosures of estimated annual operating costs required at the bottom of the EnergyGuides for these products on the 2004 Representative Average Unit Costs of Energy for electricity (8.60 cents per kiloWatt-hour), natural gas (91.0 cents per therm), propane ($1.23 per gallon), and/or heating oil ($1.28 per gallon) that were published by the Commission on April 30, 2004 (69 FR 23650).

The ranges of comparability for room air conditioners, furnaces, boilers, and pool heaters have not changed significantly enough to warrant a change to the current ranges. Therefore, the current ranges for these products will remain in effect until further notice. Manufacturers of room air conditioners must continue to use the corrected ranges for room air conditioners that were published on November 13, 1995 (60 FR 56945, at 56949). Manufacturers of room air conditioners must continue to base the disclosures of estimated annual operating cost required at the bottom of EnergyGuides for these products on the 1995 Representative Average Unit Costs of Energy for electricity (8.67 cents per kiloWatt-hour) that was published by the Commission on February 17, 1995 (60 FR 9295).

For up-to-date tables showing current range and cost information for all covered appliances, see the Commission's Appliance Labeling Rule Web page at http://www.ftc.gov/appliances.

List of Subjects in 16 CFR Part 305

Advertising, Energy conservation, Household appliances, Labeling, Reporting and recordkeeping requirements.

For the reasons set forth in the preamble, FTC is amending 16 CFR part 305 as follows:

PART 305—RULE CONCERNING DISCLOSURES REGARDING ENERGY CONSUMPTION AND WATER USE OF CERTAIN HOME APPLIANCES AND OTHER PRODUCTS REQUIRED UNDER THE ENERGY POLICY AND CONSERVATION ACT (“APPLIANCE LABELING RULE”)

1. The authority citation for Part 305 continues to read as follows:

Authority: 42 U.S.C. 6294.

2. Appendices D1 through D5 to Part 305 are revised to read as follows:

Appendix D1 to Part 305—Water Heaters—Gas
[Range information]
Capacity: First hour rating | Range of estimated annual energy consumption (therms/yr. and gallons/yr.): Natural gas therms/yr.: Low | Range of estimated annual energy consumption (therms/yr. and gallons/yr.): Natural gas therms/yr.: High | Range of estimated annual energy consumption (therms/yr. and gallons/yr.): Propane gallons/yr.: Low | Range of estimated annual energy consumption (therms/yr. and gallons/yr.): Propane gallons/yr.: High
Less than 21 | (*) | (*) | (*) | (*)
21 to 24 | (*) | (*) | (*) | (*)
25 to 29 | (*) | (*) | (*) | (*)
30 to 34 | (*) | (*) | (*) | (*)
35 to 40 | (*) | (*) | (*) | (*)
41 to 47 | (*) | (*) | (*) | (*)
48 to 55 | 234 | 254 | 256 | 278
56 to 64 | 246 | 254 | 269 | 278
65 to 74 | 234 | 258 | 256 | 283
75 to 86 | 230 | 272 | 256 | 288
87 to 99 | 242 | 272 | 265 | 288
100 to 114 | 230 | 283 | 252 | 298
115 to 131 | 242 | 312 | 265 | 309
Over 131 | 254 | 312 | 278 | 342
* No data submitted.

Appendix D2 to Part 305—Water Heaters—Electric
[Range information]
Capacity: First hour rating | Range of estimated annual energy consumption (KWh/yr.): Low | Range of estimated annual energy consumption (KWh/yr.): High
Less than 21 | (*) | (*)
21 to 24 | (*) | (*)
25 to 29 | 4721 | 4721
30 to 34 | 4721 | 4773
35 to 40 | 4671 | 4934
41 to 47 | 4671 | 4990
48 to 55 | 4622 | 4879
56 to 64 | 4622 | 4879
65 to 74 | 4671 | 4934
75 to 86 | 4622 | 5106
87 to 99 | 4773 | 5166
100 to 114 | 4825 | 5421
115 to 131 | 5106 | 5355
Over 131 | (*) | (*)
* No data submitted.

Appendix D3 to Part 305—Water Heaters—Oil
[Range information]
Capacity: First hour rating | Range of estimated annual energy consumption (gallons/yr.): Low | Range of estimated annual energy consumption (gallons/yr.): High
Less than 65 | (*) | (*)
65 to 74 | (*) | (*)
75 to 86 | (*) | (*)
87 to 99 | (*) | (*)
100 to 114 | 174 | 200
115 to 131 | 159 | 200
Over 131 | 164 | 212
* No data submitted.

Appendix D4 to Part 305—Water Heaters—Instantaneous-Gas
[Range information]
Capacity: First hour rating | Range of estimated annual energy consumption (therms/yr. and gallons/ yr.): Natural Gas therms/yr.: Low | Range of estimated annual energy consumption (therms/yr. and gallons/ yr.): Natural Gas therms/yr.: High | Range of estimated annual energy consumption (therms/yr. and gallons/ yr.): Propane gallons/yr.: Low | Range of estimated annual energy consumption (therms/yr. and gallons/ yr.): Propane gallons/yr.: High
Under 1.00 | 235 | 235 | 256 | 256
1.00 to 2.00 | 230 | 230 | 252 | 252
2.01 to 3.00 | 185 | 220 | 196 | 239
Over 3.00 | 177 | 238 | 187 | 260
* No data submitted.

Appendix D5 to Part 305—Water Heaters—Heat Pump
[Range information]
Capacity: First hour rating | Range of estimated annual energy consumption (KWh/Yr.): Low | Range of estimated annual energy consumption (KWh/Yr.): High
Less than 21 | (*) | (*)
21 to 24 | (*) | (*)
25 to 29 | (*) | (*)
30 to 34 | (*) | (*)
35 to 40 | (*) | (*)
41 to 47 | (*) | (*)
48 to 55 | (*) | (*)
56 to 64 | 1830 | 1830
65 to 74 | (*) | (*)
75 to 86 | (*) | (*)
87 to 99 | (*) | (*)
100 to 114 | (*) | (*)
115 to 131 | (*) | (*)
Over 131 | (*) | (*)
* No data submitted.

Cost Information

When the above ranges of comparability in Appendices D1 through D5 are used on EnergyGuide labels for water heaters, the estimated annual operating cost disclosure appearing in the box at the bottom of the labels must be derived using the 2004 Representative Average Unit Costs for electricity (8.60¢ per kiloWatt-hour), natural gas (91.0¢ per therm), propane ($1.23 per gallon, and heating oil ($1.28 per gallon) and the text below the box must identify the costs as such.

3. Appendix L is amended by revising Prototype Label 3 and Sample Label 5 of part 305 to read as follows:

* * * * *

BILLING CODE 6750-01-P

* * * * *

By direction of the Commission.
Donald S. Clark,
Secretary.

[FR Doc. 04-15924 Filed 7-13-04; 8:45 am]

BILLING CODE 6750-01-C